DEPARTMENT OF ENERGY

Federal Energy Regulatory Commission

[IC05-11-001, FERC-11]

Commission Information Collection Activities, Proposed Collection; Comment Request; Extension

August 26, 2005.

AGENCY: Federal Energy Regulatory Commission.

ACTION: Notice.

SUMMARY: In compliance with the requirements of section 3507 of the Paperwork Reduction Act of 1995, 44 U.S.C. 3507, the Federal Energy Regulatory Commission (Commission) has submitted the information collection described below to the Office of Management and Budget (OMB) for review and extension of this information collection requirement. Any interested person may file comments directly with OMB and should address a copy of those comments to the Commission as explained below. The Commission received no comments in response to an earlier Federal Register notice of June 7, 2005 (70 FR 33140-41) and has made this notation in its submission to OMB.

DATES: Comments on the collection of information are due by September 23, 2005.

ADDRESSES: Address comments on the collection of information to the Office of Management and Budget, Office of Information and Regulatory Affairs, Attention: Federal Energy Regulatory Commission Desk Officer. Comments to OMB should be filed electronically, c/o oira_submission@omb.eop.gov and include the OMB Control No. as a point of reference. The Desk Officer may be reached by telephone at (202) 395-4650. A copy of the comments should also be sent to the Federal Energy Regulatory Commission, Office of the Executive Director, ED-33, Attention: Michael Miller, 888 First Street, NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC05-11-001.

Documents filed electronically via the Internet must be prepared in WordPerfect, MS Word, Portable Document Format, or ASCII format. To file the document, access the Commission's Web site at http://www.ferc.gov and click on “Make an E-Filing,” and then follow the instructions for each screen. First time users will have to establish a user name and password. The Commission will send an automatic acknowledgement to the sender's e-mail address upon receipt of comments. User assistance for electronic filings is available at (202) 502-8258 or by e-mail to efiling@ferc.gov. Comments should not be submitted to e-mail address.

All comments may be viewed, printed or downloaded remotely via the Internet through FERC's homepage using the “eLibrary” link. Enter the docket number excluding the last three digits in the docket number field to access the document. For user assistance, contact FERCOnlineSupport@ferc.gov or toll-free at (866) 208-3676, or for TTY, contact (202) 502-8659.

FOR FURTHER INFORMATION CONTACT: Michael Miller may be reached by telephone at (202) 502-8415, by fax at (202) 273-0873, and by e-mail at michael.miller@ferc.gov.

SUPPLEMENTARY INFORMATION:

Description

The information collection submitted for OMB review contains the following:

1. Collection of Information: FERC Form 11 “Natural Gas Monthly Quarterly Statement of Monthly Data”.

2. Sponsor: Federal Energy Regulatory Commission.

3. Control No. 1902-0032.

The Commission is now requesting that OMB approve and extend the expiration date for an additional three years with no changes to the existing collection. The information filed with the Commission is mandatory.

4. Necessity of the Collection of Information: Submission of the information is necessary for the Commission to carry out its responsibilities in implementing the statutory provisions of sections 10(a) and 16 of the Natural Gas Act (NGA) 15 U.S.C. 717-717w and the Natural Gas Policy Act of 1978 (NGPA) (15 U.S.C. 3301-3432). The NGA and NGPA authorize the Commission to prescribe rules and regulations requiring natural gas pipeline companies whose gas was transported or stored for a fee, which exceeded 50 million dekatherms in each of the three previous calendar years to submit FERC Form 11. Although the submission of the form is quarterly, the information is reported on a monthly basis. This permits the Commission to follow developing trends on a pipeline's system. Gas revenues and quantities of gas by rate schedule, transition cost from upstream pipelines, and reservation charges are reported. This information is used by the Commission to assess the reasonableness of the various revenues and cost of service items claimed in rate filings. It also provides the Commission with a view of the status pipeline activities, allows revenue comparisons between pipelines, and provides the financial status of the regulated pipelines.

The Commission implements these filing requirements in the Code of Federal Regulations (CFR) under 18 CFR section 260.3 and section 385.2011.

5. Respondent Description: The respondent universe currently comprises 63 companies (on average) subject to the Commission's jurisdiction.

6. Estimated Burden: 756 total hours, 63 respondents (average), 4 responses per respondent, and 3 hours per response (average).

7. Estimated Cost Burden to respondents: 756 hours/2080 hours per year × $108,558 per year = $39,457. The cost per respondent is equal to $626.

Statutory Authority: Sections 10(a) and 16 of the Natural Gas Act (NGA) 15 U.S.C. 717-717w and the Natural Gas Policy Act of 1978 (NGPA) (15 U.S.C. 3301-3432).

Magalie R. Salas,
Secretary.

[FR Doc. E5-4815 Filed 9-1-05; 8:45 am]

BILLING CODE 6717-01-P